FEDERAL COMMUNICATIONS COMMISSION

47 CFR Part 64

[CG Docket No. 03-123; WC Docket No. 05-196; WC Docket No. 10-191; FCC 10-161]

Telecommunications Relay Services and Speech-to-Speech Services for Individuals With Hearing and Speech Disabilities, E911 Requirements for IP-Enabled Service Providers, Internet-Based Telecommunications Relay Service Numbering

AGENCY: Federal Communications Commission.

ACTION: Proposed rule.

SUMMARY: In this document, the Federal Communications Commission (Commission) seeks comment on steps the Commission should take to improve assignment of telephone numbers associated with Internet-based Telecommunications Relay Service (iTRS), specifically, Video Relay Service (VRS) and IP Relay.

DATES: Comments on the proposed rules are due on or before December 2, 2010 and reply comments are due on or before December 17, 2010. Written comments on the Paperwork Reduction Act proposed information collection requirements must be submitted by the public, Office of Management and Budget (OMB), and other interested parties on or before January 3, 2011. If you anticipate that you will be submitting comments, but find it difficult to do so within the period of time allowed by this summary, you should advise the contact listed below as soon as possible.

ADDRESSES: You may submit comments, identified by WC Docket No.10-191, by any of the following methods:

• Federal eRulemaking Portal: http://www.regulations.gov. Follow the instructions for submitting comments.

• Federal Communications Commission's Web site: http://fjallfoss.fcc.gov/ecfs2/. Follow the instructions for submitting comments.

• People with Disabilities: Contact the FCC to request reasonable accommodations (accessible format documents, sign language interpreters, CART, etc.) by e-mail: FCC504@fcc.gov or phone: (202) 418-0530 or TTY: (202) 418-0432.

• In addition to filing comments with the Secretary, a copy of any comments on the Paperwork Reduction Act information collection requirements contained herein should be submitted to the Federal Communications Commission via e-mail to PRA@fcc.gov and to Nicholas A. Fraser, Office of Management and Budget, via e-mail to Nicholas_A._Fraser@omb.eop.gov or via fax at 202-395-5167.

For detailed instructions for submitting comments and additional information on the rulemaking process, see the SUPPLEMENTARY INFORMATION section of this document.

FOR FURTHER INFORMATION CONTACT: Heather Hendrickson at (202) 418-7295, Wireline Competition Bureau, Competition Policy Division. For additional information concerning the Paperwork Reduction Act information collection requirements contained in this document, send an e-mail to PRA@fcc.gov or contact Cathy Williams at 202-418-2918.

SUPPLEMENTARY INFORMATION: This is a synopsis of the Commission's Notice of Proposed Rulemaking in CG Docket No. 03-123; WC Docket No. 05-196; WC Docket No. 10-191; FCC 10-161, adopted September 16, 2010, and released September 17, 2010. The complete text of this document is available for inspection and copying during normal business hours in the FCC Reference Information Center, Portals II, 445 12th Street, SW., Room CY-A257, Washington, DC 20554. The document may also be purchased from the Commission's duplicating contractor, Best Copy and Printing, Inc., 445 12th Street, SW., Room CY-B402, Washington, DC 20554, telephone (800) 378-3160 or (202) 863- 2893, facsimile (202) 863-2898, or via the Internet at http://www.bcpiweb.com. It is also available on the Commission's Web site at http://www.fcc.gov.

Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the Web site for submitting comments.

○ For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

○ Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

○ The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

○ Commercial overnight mail (other than U.S. Postal Service Express Mail and Priority Mail) must be sent to 9300 East Hampton Drive, Capitol Heights, MD 20743.

○ U.S. Postal Service first-class, Express, and Priority mail should be addressed to 445 12th Street, SW., Washington, DC 20554.

People with Disabilities: To request materials in accessible formats for people with disabilities (Braille, large print, electronic files, audio format), send an e-mail to fcc504@fcc.gov or call the Consumer & Governmental Affairs Bureau at (202) 418-0530 (voice) or (202) 418-0432 (TTY). Contact the FCC to request reasonable accommodations for filing comments (accessible format documents, sign language interpreters, CART, etc.) by e-mail: fcc504@fcc.gov; phone: (202) 418-0530 or (202) 418-0432 (TTY).

In addition, one copy of each pleading must be sent to each of the following:

○ The Commission's duplicating contractor, Best Copy and Printing, Inc, 445 12th Street, SW., Room CY-B402, Washington, DC 20554; Web site: http://www.bcpiweb.com; phone:1-800-378-3160; and

○ Heather Hendrickson, Competition Policy Division, Wireline Competition Bureau, 445 12th Street, SW., Room 5-C225, Washington, DC 20554; e-mail: Heather.Hendrickson@fcc.gov or telephone number (202) 418-7295.

Filings and comments are also available for public inspection and copying during regular business hours at the FCC Reference Information Center, Portals II, 445 12th Street, SW., Room CY-A257, Washington, DC 20554. Copies may also be purchased from the Commission's duplicating contractor, BCPI, 445 12th Street, SW., Room CY-B402, Washington, DC 20554. Customers may contact BCPI through its Web site: www.bcpiweb.com, by e-mail at fcc@bcpiweb.com, by telephone at (202) 488-5300 or (800) 378-3160 (voice), (202) 488-5562 (TTY), or by facsimile at (202) 488-5563.

Comments and reply comments must include a short and concise summary of the substantive arguments raised in the pleading. Comments and reply comments must also comply with § 1.49 and all other applicable sections of the Commission's rules. We direct all interested parties to include the name of the filing party and the date of the filing on each page of their comments and reply comments. All parties are encouraged to utilize a table of contents, regardless of the length of their submission. We also strongly encourage parties to track the organization set forth in the NPRM in order to facilitate our internal review process.

Initial Paperwork Reduction Act of 1995 Analysis:

This document contains proposed information collection requirements. The Commission, as part of its continuing effort to reduce paperwork burdens, invites the general public and the Office of Management and Budget (OMB) to comment on the information collection requirements contained in this document, as required by the Paperwork Reduction Act of 1995, Public Law 104-13. Public and agency comments are due January 3, 2011.

Comments on the proposed information collection requirements should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might further reduce the information collection burden for small business concerns with fewer than 25 employees.

OMB Control Number: 3060-1089.

Title: Telecommunications Relay Services and Speech-to-Speech Services for Individuals with Hearing and Speech Disabilities; E911 Requirements for IP-Enabled Service Providers; Internet-Based Telecommunications Relay Service Numbering, CG Docket No. 03-123, WC Docket No. 05-196, and WC Docket No. 10-191; FCC 08-151, FCC 08-275, and FCC 10-161.

Form Number(s): Not applicable.

Type of Review: Revision of a currently approved collection.

Respondents: Business or other for-profit entities; Not-for-profit institutions; Individuals or households; State, local or tribal government.

Number of Respondents and Responses: 15 respondents and 5,763,199 responses.

Estimated Time per Response: .25-1.5 hours (average time per response).

Obligation to Respond: Required to obtain or retain benefits. The statutory authority for the collection is contained in Sections 1, 2, 4(i), 4(j), 225, 251, and 303(r) of the Communications Act of 1934, as amended, 47 U.S.C. 151, 152, 154(i), 154(j), 225, 251, 303(r).

Frequency of Response: On occasion, quarterly and one time reporting requirements, recordkeeping and third party disclosure requirements.

Total Annual Burden: 279,891 hours.

Total Annual Cost: $4,269,135.

Privacy Act Impact Assessment: No impact(s).

Nature of Extent of Confidentiality: An assurance of confidentiality is not offered because the Commission has no direct involvement in the collection of personally identifiable information (PII) from individuals and/or household.

Needs and Uses: On September 16, 2010, the Commission adopted Telecommunications Relay Services and Speech-to-Speech Services for Individuals with Hearing and Speech Disabilities; E911 Requirements for IP-Enabled Service Providers; Internet-Based Telecommunications Relay Service Numbering, CG Docket No. 03-123, WC Docket No. 05-196, and WC Docket No. 10-191, Notice of Proposed Rulemaking, FCC 10-161 (the iTRS Toll Free NPRM) seeking comment on steps the Commission should take to improve assignment of telephone numbers associated iTRS, specifically, VRS and IP Relay. The Commission proposes several requirements to both encourage use of geographically appropriate local numbers, and ensure that the deaf and hard-of-hearing community has access to toll free telephone numbers that is equivalent to access enjoyed by the hearing community. The iTRS Toll Free NPRM proposes to revise the “User Notification” information collection requirement adopted in the First and Second Numbering Orders to add additional requirements. Specifically, in addition to provisioning their registered users' routing information to the TRS Numbering Directory and maintaining such information in the database, the Commission proposes that VRS and IP relay providers must: (1) Remove from the Internet-based TRS Numbering Directory any toll free number that has not been transferred to a subscription with a toll free service provider and for which the user is the subscriber of record, and (2) ensure that the toll free number of a user that is associated with a geographically appropriate NANP number will be associated with the same Uniform Resource Identifier URI as that geographically appropriate NANP telephone number.

In addition to the information that the Commission instructed VRS and IP Relay providers to include in the consumer advisories required by the First and Second Numbering Orders, the Commission proposed that VRS and IP Relay providers include certain additional information in their consumer advisories under the iTRS Toll Free NPRM. Specifically, the consumer advisories must explain: (1) The process by which a VRS or IP Relay user may acquire a toll free number from a toll free service provider, or transfer control of a toll free number from a VRS or IP Relay provider to the user; and (2) the process by which persons holding a toll free number may have that number linked to their ten-digit telephone number in the TRS Numbering Directory. The Commission also proposes that VRS and IP Relay providers that have already assigned or provided a toll free number to a VRS or IP Relay user must, at the VRS or IP Relay user's request, facilitate the transfer of the toll free number to a toll free subscription with a toll free service provider that is under the direct control of the user.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

Initial Regulatory Flexibility Analysis

1. As required by the Regulatory Flexibility Act of 1980, as amended (RFA), the Commission has prepared the present Initial Regulatory Flexibility Analysis (IRFA) of the possible significant economic impact on small entities that might result from this Notice of Proposed Rulemaking (NPRM). Written public comments are requested on this IRFA. Comments must be identified as responses to the IRFA and must be filed by the deadlines for comments on the NPRM provided above. The Commission will send a copy of the NPRM, including this IRFA, to the Chief Counsel for Advocacy of the Small Business Administration. In addition, the NPRM and the IRFA (or summaries thereof) will be published in the Federal Register.

A. Need for, and Objective of, the Proposed Rules

2. In the NPRM, the Commission seeks comment on steps the Commission should take to improve toll free access for Internet-based Telecommunications Relay Service (iTRS). Specifically, as a continuation of the Commission's ten-digit numbering plan for iTRS, we propose rules, and seek comment, to ensure that toll free numbers are as available, and used, by deaf and hard-of-hearing users as they are for hearing users. For example, the Commission seeks comment on ways to ensure that iTRS users in most cases use a local number as the primary telephone number. The Commission seeks comment on prohibiting iTRS providers from assigning new toll free numbers to users. The Commission also seeks comment on methods for an iTRS provider to assist an iTRS user in the process of transferring his or her assigned toll free number to a subscription with a toll free service provider. The Commission seeks comment on a proposal that a deaf or hard-of-hearing iTRS user that obtains a toll free number from, or ports a toll free number to, a toll free service provider that has mapped the number to the user's local number in the SMS/800 Database, may also have that toll free number mapped to the user's local number in the iTRS Directory. The Commission seeks comment on a one-year transition period for iTRS users to transfer toll free numbers to a direct subscription with a toll free service provider. The Commission also seeks comment on whether there is any reason not to remove any non-user selected toll free numbers from the iTRS database. The Commission seeks comment on consumer outreach efforts to educate and assist iTRS users with the changes to toll free access.

B. Legal Basis

3. The legal basis for any action that may be taken pursuant to this Notice of Proposed Rulemaking is contained in sections 1, 4(i), 4(j), 225, 251(e), and 255 of the Communications Act of 1934, as amended, 47 U.S.C. 151, 154(i), 154(j), 225, 251(e), and 255, and §§ 0.91, 0.141, 0.291, 0.361, and 1.3 of the Commission's rules, 47 CFR 0.91, 0.141, 0.291, 0.361, 1.3.

C. Description and Estimate of the Number of Small Entities to Which the Proposed Rules Will Apply

4. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the SBA.

5. With regard to whether a substantial number of small entities may be affected by the requirements proposed in this, the Commission notes that, of the fifteen providers affected by the NPRM, four meet the definition of a small entity. The SBA has developed a small business size standard for Wired Telecommunications Carriers, which is: All such firms having 1,500 or fewer employees. The fifteen providers currently receiving compensation from the Interstate TRS Fund for providing any form of TRS are: American Network, AT&T Corp.; CSDVRS; CAC; GoAmerica; Hamilton Relay, Inc.; Hands On; Healinc; Kansas Relay Service, Inc.; Michigan Bell; Nordia Inc.; Snap Telecommunications, Inc; Sorenson; Sprint; and State of Michigan.

D. Description of Projected Reporting, Recordkeeping, and Other Compliance Requirements

6. Should the Commission decide to adopt any of the proposed rules to improve toll free access for iTRS, such action could potentially result in increased, reduced, or otherwise modified recordkeeping, reporting, or other compliance requirements for affected iTRS providers. For instance, VRS and IP Relay providers would be required to include an advisory on their Web sites describing the process by which a VRS or IP Relay user may acquire a toll free number from a toll free service provider, or transfer control of a toll free number from a VRS or IP Relay provider to the user; and the process by which persons holding a toll free number may have that number linked to their ten-digit telephone number in the TRS Numbering Directory. We seek comment on the effect of these proposals, and commenters are encouraged to quantify the costs and benefits of any reporting, recordkeeping, or compliance requirement that may be established in this proceeding.

E. Steps Taken To Minimize Significant Economic Impact on Small Entities, and Significant Alternatives Considered

7. The RFA requires an agency to describe any significant alternatives that it has considered in reaching its proposed approach, which may include the following four alternatives (among others): (1) The establishment of differing compliance and reporting requirements or timetables that take into account the resources available to small entities; (2) the clarification, consolidation, or simplification of compliance or reporting requirements under the rule for small entities; (3) the use of performance, rather than design, standards; and (4) an exemption from coverage of the rule, or part thereof, for small entities. As stated above, only four current providers would be affected by this NPRM.

F. Federal Rules That May Duplicate, Overlap, or Conflict With the Proposed Rules

None.

I. Introduction

1. In this Notice of Proposed Rulemaking (NPRM), we seek comment on steps the Commission should take to improve assignment of telephone numbers associated with Internet-based Telecommunications Relay Service (iTRS), specifically, Video Relay Service (VRS) and IP Relay. VRS allows individuals with hearing and speech disabilities to communicate using sign language through video equipment, and IP Relay allows these individuals to communicate in text using a computer. We seek to encourage use of geographically appropriate local numbers, and ensure that the deaf and hard-of-hearing community has access to toll free telephone numbers that is equivalent to access enjoyed by the hearing community.

2. In June 2008, the Commission instituted a ten-digit numbering plan for iTRS in order to make access by deaf and hard-of-hearing people functionally equivalent to access enjoyed by the hearing community, as required by statute. The Commission recognized that doing so would further the functional equivalency mandate by ensuring that Internet-based TRS users can be reached by voice telephone users in the same way that voice telephone users are called. The Commission sought to ensure that iTRS users can be reached via telephone, just as hearing users can be reached via telephone. As a result of that order, most deaf and hard-of-hearing iTRS users have obtained local telephone numbers. Although iTRS providers are required to assign local numbers to their customers, at least some iTRS providers assign a toll free number as well, even if the customer does not request one. Thus, a large number of personal toll free numbers have been issued to iTRS users.

3. The automatic issuance and prevalence of toll free iTRS numbers presents several concerns. For example, the use of toll free numbers increases the risk of confusion and delay during an emergency call. The automatic issuance of toll free numbers also may be inconsistent with the statutory requirement to provide service that is functionally equivalent to hearing individuals, and is at odds with other Commission policies such as local number portability (LNP). Consumer groups representing deaf and hard-of-hearing users have raised similar concerns, and agreed with the Commission on the need to limit or prohibit the distribution of toll free numbers by iTRS providers. In this NPRM, we seek comment on proposed rules designed to align access to local and toll free numbers by iTRS users more closely with the way that hearing users obtain toll free numbers. We expect to establish rules that will ensure that an iTRS user's local number is used routinely as the primary telephone number that hearing users dial to reach the deaf or hard-of-hearing user via an iTRS provider and that deaf and hard-of-hearing users employ for point-to-point calling with other deaf and hard-of-hearing users.

II. Background

4. Authority. The Commission has authority to adopt and implement a system for assigning iTRS users local numbers linked to the NANP pursuant to sections 225 and 251(e) of the Communications Act of 1934, as amended (the Act). Section 225 requires the Commission to ensure that functionally equivalent TRS be available nationwide to the extent possible and in the most efficient manner, and directs the Commission to adopt regulations to govern the provision and compensation of TRS. Section 251 grants the Commission authority to oversee numbering administration in the United States. Establishing rules governing the use of toll free numbers by iTRS providers in connection with iTRS services is a continuation of the implementation of the Commission's numbering plan, and is essential to the Commission's goal of making the numbering system used by deaf and hard-of-hearing individuals functionally equivalent to the system used by hearing individuals.

5. Internet-based TRS Orders. On June 24, 2008, the Commission issued the First Internet-based TRS Order, (73 FR 41307, July 18, 2010) in which it adopted a uniform numbering system for iTRS. Prior to the Commission's numbering plan, there was no uniform numbering system for iTRS. Rather, iTRS users were reached at a dynamic IP address, a proxy or alias number, or a toll free number. In the case of toll free numbers, an iTRS user would provide the number to any hearing user. When a hearing user dialed the iTRS user's toll free number, the voice call was routed by the PSTN to the provider that had subscribed to the number and assigned it to a user. That toll free number was not linked to a user-specific local number but the provider would be able to translate the toll free number dialed by the hearing user to the iTRS user's IP address in the provider's database. However, prior to December 31, 2008, iTRS providers did not share databases, and therefore, the iTRS user and people calling that user were forced to use the service of the iTRS provider that gave the user the toll free number. This arrangement was in tension with the Commission's interoperability requirements, which prohibit a VRS provider that seeks compensation from the Interstate TRS Fund from restricting the use of its equipment or service so that a VRS user cannot place or receive a call through a competing VRS provider.

6. The Commission established the numbering system to advance functional equivalency by ensuring that deaf and hard-of-hearing iTRS users can be reached by hearing telephone users in the same way that hearing telephone users are reached. The numbering system was designed to ensure that emergency calls placed by iTRS users would be directly and automatically routed to the appropriate emergency services authorities. The system also provides the benefits of local number portability, to allow deaf and hard-of-hearing iTRS users to port their telephone numbers from one iTRS provider to another. The Commission's numbering plan included the creation of a central database mechanism that maps the NANP telephone numbers assigned to iTRS users' devices to an appropriate IP address known as a Uniform Resource Identifier (URI). In the First Internet-based TRS Order's Further Notice of Proposed Rulemaking, the Commission sought comment on issues involved in using toll free numbers for iTRS, including any impact that such numbers may have on the provision of 911 service and whether iTRS users should be subject to a fee for use of a personal toll free number, as hearing users are.

7. In the Second Internet-based TRS Order, FCC 08-275 (75 FR 29914, May 28, 2010) released on December 19, 2008, the Commission addressed issues included in the First Internet-based TRS Order's Further Notice of Proposed Rulemaking, FCC 08-151 (73 FR 41307, July 18, 2008). Among other things, the Commission provided existing users a three-month “registration period,” during which iTRS users could select a default provider, provide their Registered Location, and obtain their new ten-digit NANP telephone numbers, followed by a three-month “permissive calling period,” which ended on November 12, 2009. During these registration and permissive calling periods, existing iTRS users were able to place and receive calls via the method used prior to implementation of the Commission's numbering plan. At the conclusion of the permissive calling period, however, providers were required to register any unregistered user before completing a non-emergency VRS or IP Relay call.

8. The Commission also found that, to further the goals of the numbering system, “Internet-based TRS users should transition away from the exclusive use of toll free numbers” and required all iTRS users to obtain “ten-digit geographically appropriate numbers, in accordance with our numbering system.” The Commission reasoned that local numbers, and not toll free numbers, should be used when contacting Public Safety Answering Points (PSAPs). Accordingly, the Commission stated that a user's toll free number must be mapped to the user's local, geographically appropriate number. Moreover, the Commission found that, just as voice telephone users are responsible for the costs of obtaining and using toll free numbers, the TRS fund should not compensate providers for the use of toll free numbers by iTRS users.

9. Toll Free Clarification Public Notice. In August 2009, the Consumer and Governmental Affairs Bureau and the Wireline Competition Bureau (the Bureaus) released the Toll Free Clarification Public Notice (24 FCC Rcd 10626, August 11, 2010) to clarify the intent of the Second Internet-based TRS Order that any toll free number retained or acquired by an iTRS user must be directed to the user's local number in the Service Management System (SMS)/800 database by November 12, 2009, and that a toll free number and a local number should not be directed to the same URI in the iTRS Directory. Additionally, the Bureaus acknowledged that certain point-to-point calls, as well as inbound dial-around calls, would require the use of a local number.

10. CSDVRS and TDI Petitions. On September 10, 2009, CSDVRS filed a petition for expedited reconsideration of the Toll Free Clarification Public Notice. CSDVRS claimed, among other things, that the Toll Free Clarification Public Notice violated the Administrative Procedure Act, impeded VRS interoperability, and undermined functional equivalency by eliminating toll free numbers for point-to-point and dial-around calls. Subsequently, the TDI Coalition, which represents deaf and hard-of-hearing iTRS users, filed a Petition for Emergency Stay and a Request to Return to the Status Quo Ante. The TDI Coalition asked the Commission to stay certain portions of the Toll Free Clarification Public Notice, and direct any iTRS provider that had removed toll free numbers from the iTRS Directory to reinstate those numbers. The TDI Coalition claimed that this relief was necessary to avoid “disruption of service to the severe detriment of people who are deaf, hard-of-hearing, deaf-blind or have speech disabilities who currently use toll free numbers.”

11. Toll Free Waiver Order and Extensions. In response to TDI's concerns that certain point-to-point calls would not be completed, on December 4, 2009, the Bureaus waived the portion of the Toll Free Clarification Public Notice that stated that a toll free number and a local geographic number should not be directed to the same URI in the iTRS Directory. Also, the Bureaus directed those iTRS providers that had removed working, assigned toll free numbers that did not point to the iTRS user's local number in the SMS/800 database in accordance with the Toll Free Clarification Public Notice, to reinstate those toll free numbers to the iTRS Directory. This four-month waiver was designed to give the Commission time to consider the CSDVRS petition for reconsideration as well as iTRS toll free issues generally. The Commission also recognized that it would take consumers and certain small businesses time to transition to geographically appropriate local numbers. On April 2, 2010, the Bureaus extended the waiver for an additional four months, until August 4, 2010, and on August 4, 2010, the Bureaus further extended the waiver until February 4, 2011.

12. Continued Distribution of Toll Free Numbers. Although Commission rules require iTRS providers to give each customer a local number, some providers are routinely distributing toll free numbers in addition to local numbers. These toll free numbers are being distributed at no charge to the user and are provided even if the iTRS user does not request it. This practice encourages the use of toll free numbers, which is inconsistent with the Commission's ruling that iTRS users should “transition away from the exclusive use of toll-free numbers to ten-digit, geographically appropriate numbers, in accordance with our numbering system.”

13. There are several problems with the use of toll free numbers in the context of iTRS.

• Lack of Functional Equivalency and Consumer Confusion. The First Internet-based TRS Order attempted to ensure that “Internet-based TRS users can be reached by voice telephone users in the same way that voice telephone users are called.” Hearing users are not typically reached via personal toll free numbers, nor are they automatically provided a personal toll free number when they sign up for service. Moreover, evidence in prior proceedings reflects that the automatic issuance of toll free numbers can cause confusion and frustration. An iTRS user may not understand the purpose of the toll free number, or understand that it is duplicative of the local number. In addition, many iTRS users do not want to receive a toll free number, even if it is provided free of charge. Finally, because iTRS customers are issued a local number, they do not need toll free numbers to achieve functional equivalency.

• Emergency Calling. One of the primary purposes for developing a numbering system for iTRS that is linked to the NANP was to ensure that emergency calls placed by iTRS users “will be routed directly and automatically to the appropriate emergency services authorities” by iTRS providers. The Commission reaffirmed that the local numbers will ensure automatic routing. In a typical 911 call, the call taker at the PSAP will see the user's local number displayed and will verbally confirm that number as the call-back number. If the person placing an emergency call through iTRS provides a toll free number as the call-back number (for example, out of habit), there will be a discrepancy with the local number displayed. This discrepancy could cause confusion and in turn affect critical response time.

• Lack of Portability and Impairment of Full Competition. When an iTRS provider secures a toll free number for one of its users, the “toll free subscriber,” for porting purposes of the toll free number, is the iTRS provider and not the user. Thus, when an iTRS user leaves the service provider, the user cannot easily and reliably take the toll free number with him or her. For example, many iTRS providers that would otherwise be a competitive alternative to that service provider simply do not support provider-paid personal toll free numbers. As a result, an iTRS user that has relied heavily on a personal toll free number may be reluctant to switch providers. Further, although the Commission has found that iTRS providers are obligated to take all steps necessary to port on behalf of the user, we do not believe this is consistently achievable for toll free numbers. Moreover, as a technical matter, the Commission's iTRS Directory is not able to automatically synchronize the porting of a device's local number and toll free number from one provider to another.

Because local numbers are readily portable and toll free numbers are not, the automatic issuance of personal toll free numbers limits user choice and reduces competition, raising concerns about functional equivalency. One policy goal of the Commission's numbering plan was to create competition in the iTRS market and enhance consumer choice. For example, the Commission made clear that iTRS users could “dial around” their default provider in order to utilize the services of a different iTRS provider. Moreover, the Commission stated that an iTRS user could select and register with a new default provider at any time and have his or her number ported to that provider. To the extent that iTRS providers promote the use of toll free numbers, that practice is at odds with our interoperability requirements and competitive goals.

• Number Conservation. To the extent that iTRS providers automatically provide a personal toll free number at the same time they provide the requisite local number, the toll free number is duplicative. The Commission has articulated a policy of promoting number conservation. Issuing toll free numbers that do not serve a unique purpose, and indeed, that the customer does not request, undermines that policy. While iTRS users are free to obtain a toll free number in the same manner as hearing users do, we seek to discontinue the automatic and unnecessary dissemination of toll free numbers.

• Costs to the Fund. In the Second Internet-based TRS Order, the Commission concluded that costs associated with iTRS users' toll free numbers are not compensable from the TRS Fund. We remain concerned, however, that costs associated with obtaining and distributing toll free numbers may be directly or indirectly compensated. We are also concerned that extensive use of toll free numbers may increase per-minute costs to the Fund. Although staff analysis cannot determine whether “unlimited free calling” encourages more calls to be placed from hearing people to iTRS users, analysis does indicate that “unlimited free calling” encourages such calls to be held longer than otherwise would be the case; the extra minutes of traffic that toll free numbers generate in this fashion are compensable from the Fund.

III. Discussion

14. In this NPRM, we seek comment on proposed rules intended to improve access to telephone numbers associated with iTRS and to ensure that such numbers are assigned in the same manner as numbers are assigned to hearing telephone users. While iTRS users are of course free to obtain toll free numbers, our goal is to encourage iTRS users to use the local number as their primary—and in most cases exclusive—telephone number, as this is the case for hearing users. Similarly, the local number should be the number that the user gives out for contact information, applications and resumes, and online purchases, and that is presented, for example, for Caller ID purposes. We are not seeking to prevent deaf or hard-of-hearing individuals who want the use of a toll free number from obtaining one. Instead, we are seeking to ensure that toll free numbers do not serve as default personal numbers simply because a customer is deaf or hard-of-hearing. Deaf and hard-of-hearing users who wish to use a toll free number for business or personal use may acquire a toll free number, or keep a toll free number that an iTRS provider has already assigned, in a manner consistent with how toll free numbers are used by hearing individuals.

15. Pursuant to our authority under sections 225 and 251 of the Act, we propose rules to address the problems identified above that are caused by the promotion and disproportionately high use of toll free numbers in connection with iTRS services. Moreover, we seek comment on ways to ensure that those iTRS users who have a need for toll free numbers for business purposes or who wish to obtain a toll free number for personal use are able to use toll free numbers in the same manner as hearing users. Our specific requests for comment are set forth below.

16. User-Selected Toll Free Use. We propose that the first step in reforming the use of toll free numbers for iTRS be to prohibit iTRS providers, acting in the capacity of a user's default number provider, from also automatically assigning a new toll free number to the user. The Commission's previous efforts have not led to a significant reduction in the assignment of toll free numbers by iTRS providers. We therefore believe that immediately prohibiting iTRS providers from automatically issuing toll free numbers is the best way to achieve the goal of encouraging the use of local numbers. Furthermore, the consumer groups representing iTRS users support this approach. Indeed, consumer groups have expressed a desire to work with the Commission to promote use of local numbers as the primary contact for deaf and hard-of-hearing persons. We seek comment on this approach.

17. Continuing Use of and Access to Toll Free Numbers. We emphasize that our proposed rules do not preclude iTRS users from having toll free numbers if they want them. On the contrary, we believe that iTRS users should have the same access to toll free numbers that hearing users do. A hearing user who wants a toll free number for personal or business use contacts a toll free service provider to obtain a toll free number; we believe that deaf and hard-of-hearing users should do the same. Moreover, we recognize that it would be disadvantageous to iTRS users who want to continue to use a toll free number to have to obtain a new number and inform people of that new number. Accordingly, we propose that any iTRS user who wants to keep a toll free number that was issued by an iTRS provider may do so. At the user's request, the iTRS provider must facilitate the transfer of the user's toll free number to a direct subscription with a toll free service provider, making the iTRS user the toll free subscriber for that number. At that point, the iTRS user will be a customer of the toll free service provider: The toll free service provider will bill the iTRS user directly, and the iTRS provider that originally provided the toll free number will have no continuing role in administering the toll free number on the user's behalf.

18. No Support for Toll Free Numbers from TRS Fund. The Commission has concluded that the costs associated with assigning and providing to iTRS users toll free numbers are not compensable from the TRS Fund. Thus, if an iTRS user transfers his or her toll free number from an iTRS provider to a toll free service provider (or obtains a toll free number directly from a toll free service provider), the user assumes responsibility for all costs associated with the toll free number.

19. Transfer of Toll Free Numbers. We seek comment on ways that iTRS providers can help transfer a toll free number assigned by the iTRS provider to the user's direct subscription with a toll free service provider. We seek comment on any jurisdictional or policy issues the Commission should consider in regard to this change in toll free subscription. Consistent with our Toll Free Clarification Public Notice, toll free numbers that are used in conjunction with the iTRS Numbering Directory will be mapped to the user's local number. We seek comment on any technical or policy issues involved with this proposal or mapping the toll free number to the user's local number in the SMS/800 database.

20. We also seek comment on how iTRS providers should assist an iTRS user in the process of transferring his or her toll free number to a toll free service provider. We propose that, at a minimum, iTRS providers modify the user notifications they currently provide to include information on how users can acquire or transfer a toll free number and how toll free numbers may be linked to ten-digit telephone numbers in the iTRS Directory. We also seek comment on whether there are any additional steps the Commission should take to protect users or ensure they get unbiased and full information? We want to make the transition to a new toll free number process as easy as possible for iTRS users. Commenters should therefore address what information would be most helpful to users, and what steps the Commission can take to minimize customer confusion.

21. Toll Free Numbers in the iTRS Directory. When a hearing customer obtains a toll free number from a toll free provider, that number is mapped to the user's local number in the SMS/800 database. We believe that when a deaf or hard-of-hearing person obtains a toll free number from a toll free provider, the number should also be mapped to the user's local number in the iTRS Directory. This will permit a deaf or hard-of-hearing user to be reached at a toll free number both by other deaf and hard-of-hearing users on direct calls that are completely Internet-based, and by hearing users who “dial around” the user's default provider.

22. Parties have identified routing problems that occur when toll free numbers are not linked to the associated local numbers in the iTRS Directory. We also recognize that these routing problems can create a “walled garden” for the dominant iTRS provider. Therefore, we believe that mapping the toll free number to the local number in the iTRS directory is an important aspect of functional equivalency because it allows deaf and hard-of-hearing users to receive calls through any iTRS provider, and propose that such mapping to the iTRS directory be mandatory. We seek comment on that proposal.

23. Transition Period. We recognize that it would take time for iTRS users to become aware of and conform to the toll free number procedures that may result from this NPRM. We agree with the TDI Coalition that we need to allow a reasonable period of time for consumer outreach and education to transition consumers from toll free numbers to local numbers. We believe that a one-year transition period would be sufficient. During this time, the Commission, iTRS providers, and consumer groups can engage in outreach efforts to educate users on the problems of toll free numbers in the iTRS context, the benefits of using geographically appropriate numbers in this context, and the steps for obtaining toll free numbers directly from a toll free service provider. Moreover, iTRS users can update contact information, obtain a toll free number from a toll free provider, if desired, and make any other necessary adjustments. We also expect to use the transition period to educate users on the new procedures for obtaining a toll free number. We seek comment on our proposal to allow a one-year transition period. We also seek comment on whether there are any other issues we must consider in connection with the proposed transition period.

24. Removing Non-Selected Toll Free Numbers from the iTRS Directory. We believe that an important outcome of this proceeding should be to cleanse the iTRS Directory of extra or unwanted toll free numbers. Accordingly, we propose that after the transition period, any toll free numbers that have not been mapped to local numbers in the SMS/800 database by a toll free service provider be removed from the iTRS Directory. We seek comment on whether there is any reason not to remove these numbers from the iTRS Directory. Moreover, we seek comment on whether there should be a process where, during the transition period, iTRS users who know they do not want their toll free number(s) can request that those numbers be deleted from the iTRS Directory. Such a procedure may help clean up the iTRS Directory on an ongoing basis as opposed to being done all at once at the end of the transition period. We seek comment on whether this proposal may cause any service disruption to users and, if so, steps we can take to minimize such disruption. We also seek comment on whether there are any technical or policy considerations regarding, for example, toll free number administration, that must be addressed.

25. Consumer Outreach. We believe that the success of the Commission's numbering plan was in major part due to the outreach efforts by consumer groups, as well as by iTRS providers and the Commission. We believe this will be the case for our efforts to revise the Commission's policies and procedures regarding toll free number use in connection with iTRS service as well. Consumer groups representing deaf and hard-of-hearing iTRS users have stated that iTRS providers have given inconsistent information regarding the use of and need for toll free numbers. We recognize that deaf and hard-of-hearing individuals may be used to the current process for obtaining toll free numbers and that any change will require substantial education and outreach. We also recognize that iTRS providers will need to play a major role in consumer education because of their relationships with the users and their history as providers of toll free numbers. Consumer advocacy groups as well as the Commission will also play a significant role in consumer outreach and education efforts. The Commission is committed as well to playing a significant role in conducting consumer outreach and education on this issue. We seek input on ways to make information about the availability and use of toll free numbers available to iTRS users, such as fact sheets and Web sites. We encourage consumers to assist in outreach efforts through their community contacts, and welcome other ideas about what the Commission might do to help facilitate consumer outreach efforts.

IV. Procedural Matters

1. Ex Parte Presentations

26. This proceeding shall be treated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other requirements pertaining to oral and written presentations are set forth in § 1.1206(b) of the Commission's rules.

2. Comment Filing Procedures

27. Pursuant to §§ 1.415 and 1.419 of the Commission's rules, interested parties may file comments and reply comments regarding the further notice on or before the dates indicated on the first page of this document. All filings should refer to WC Docket No. 10-191. Comments may be filed using: (1) The Commission's Electronic Comment Filing System (ECFS); (2) the Federal Government's e-Rulemaking Portal; or (3) by filing paper copies.

28. Electronic Filers: Comments may be filed electronically using the Internet by accessing the ECFS: http://fjallfoss.fcc.gov/ecfs/ or the Federal e-Rulemaking Portal: http://www.regulations.gov.

29. Paper Filers: Parties who choose to file by paper must file an original and four copies of each filing. If more than one docket or rulemaking number appears in the caption of this proceeding, filers must submit two additional copies for each additional docket or rulemaking number.

30. Filings can be sent by hand or messenger delivery, by commercial overnight courier, or by first-class or overnight U.S. Postal Service mail. All filings must be addressed to the Commission's Secretary, Office of the Secretary, Federal Communications Commission.

31. Effective December 28, 2009, all hand-delivered or messenger-delivered paper filings for the Commission's Secretary must be delivered to FCC Headquarters at 445 12th St., SW., Room TW-A325, Washington, DC 20554. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail must be addressed to 445 12th Street, SW., Washington DC 20554.

32. People with Disabilities: To request materials in accessible formats for people with disabilities (Braille, large print, electronic files, audio format), send an e-mail to fcc504@fcc.gov or call the Consumer and Governmental Affairs Bureau at 202-418-0530 (voice), 202-418-0432 (tty).

33. Parties should send a copy of their filings to Heather Hendrickson, Competition Policy Division, Wireline Competition Bureau, Federal Communications Commission, Room 5-C225, 445 12th Street, SW., Washington, DC 20554, or by e-mail to heather.hendrickson@fcc.gov. Parties shall also serve one copy with the Commission's copy contractor, Best Copy and Printing, Inc. (BCPI), Portals II, 445 12th Street, SW., Room CY-B402, Washington, DC 20554, (202) 488-5300, or via e-mail to fcc@bcpiweb.com.

34. Documents in WC Docket No. 10-191 will be available for public inspection and copying during business hours at the FCC Reference Information Center, Portals II, 445 12th Street SW., Room CY-A257, Washington, DC 20554. The documents may also be purchased from BCPI, telephone (202) 488-5300, facsimile (202) 488-5563, TTY (202) 488-5562, e-mail fcc@bcpiweb.com.

V. Ordering Clauses

35. Accordingly, it is ordered, pursuant to the authority contained in sections 1, 4(i), 4(j), 225, 251(e), and 255 of the Communications Act of 1934, as amended, 47 U.S.C. 151, 154(i), 154(j), 225, 251(e), and 255, and §§ 0.91, 0.141, 0.291, 0.361, and 1.3 of the Commission's rules, 47 CFR 0.91, 0.141, 0.291, 0.361, 1.3, that this Notice of Proposed Rulemaking is adopted.

36. It is further ordered that the Commission's Consumer and Governmental Affairs Bureau, Reference Information Center, shall send a copy of this NPRM, including the Initial Regulatory Flexibility Analysis, to the Chief Counsel for Advocacy of the Small Business Administration.

List of Subjects in 47 CFR Part 64

Telecommunications.

Federal Communications Commission.
Marlene H. Dortch,
Secretary.

Proposed Rules

For the reasons discussed in the preamble, the Federal Communications Commission proposes to amend 47 CFR part 64 as follows:

PART 64—MISCELLANEOUS RULES RELATING TO COMMON CARRIERS

1. The authority citation for part 64 continues to read as follows:

Authority: 47 U.S.C. 154, 254(k); secs. 403 (b)(2)(B), Pub. L. 104-104, 110 Stat. 56. Interpret or apply 47 U.S.C. 201, 218, 222, 225, 226, 228, and 254(k) unless otherwise noted.

2. Section 64.611 is amended by redesignating paragraphs (e) and (f) as paragraphs (f) and (g), by adding a new paragraph (e) and by adding paragraph (g)(1)(v) and (g)(1)(vi) to read as follows:

§ 64.611 Internet-based TRS registration.

* * * * *

(e) Toll free numbers. A VRS or IP Relay provider:

(1) May not assign or issue a toll free number to any VRS or IP Relay user.

(2) That has already assigned or provided a toll free number to a VRS or IP Relay user must, at the VRS or IP Relay user's request, facilitate the transfer of the toll free number to a toll free subscription with a toll free service provider that is under the direct control of the user.

(3) Must remove from the Internet-based TRS Numbering Directory any toll free number that has not been transferred to a subscription with a toll free service provider and for which the user is the subscriber of record as of [end date of transition period].

* * * * *

(g) * * *

(1) * * *

(v) The process by which a VRS or IP Relay user may acquire a toll free number from a toll free service provider, or transfer control of a toll free number from a VRS or IP Relay provider to the user; and

(vi) The process by which persons holding a toll free number may have that number linked to their ten-digit telephone number in the TRS Numbering Directory.

* * * * *

3. Section 64.613 is amended by redesignating paragraph (a)(3) as (a)(4), by revising paragraphs (a)(1) and (a)(2), and by adding a new paragraph (a)(3) to read as follows:

§ 64.613 Numbering directory for Internet-based TRS users.

(a) * * *

(1) The TRS Numbering Directory shall contain records mapping the geographically appropriate NANP telephone number of each Registered Internet-based TRS User to a unique Uniform Resource Identifier (URI).

(2) For each record associated with a VRS user's geographically appropriate NANP telephone number, the URI shall contain the IP address of the user's device. For each record associated with an IP Relay user's geographically appropriate NANP telephone number, the URI shall contain the user's user name and domain name that can be subsequently resolved to reach the user.

(3) As of [date reserved], Internet-based TRS providers must ensure that the toll free number of a user that is associated with a geographically appropriate NANP number will be associated with the same URI as that geographically appropriate NANP telephone number.

* * * * *

[FR Doc. 2010-27578 Filed 11-1-10; 8:45 am]

BILLING CODE 6712-01-P